DEPARTMENT OF HOMELAND SECURITY

Coast Guard

[Docket No. USCG-2016-0142]

Towing Safety Advisory Committee; October 2016 Meeting

AGENCY: Coast Guard, Department of Homeland Security.

ACTION: Notice of Federal Advisory Committee meeting.

SUMMARY: The Towing Safety Advisory Committee will meet in Washington, DC, to review and discuss recommendations from its Subcommittees and to receive briefs listed in the agenda under SUPPLEMENTARY INFORMATION. All meetings will be open to the public.

DATES: The Subcommittees will meet on Wednesday, October 26, 2016, from 8 a.m. to 5:30 p.m. The full Towing Safety Advisory Committee will meet on Thursday, October 27, 2016, from 8 a.m. to 5:30 p.m. These meetings may close early if the Subcommittees or Committee have completed its business.

ADDRESSES: All meetings will be held at the Department of Transportation Headquarters Media Center, 1200 New Jersey Avenue SE., Washington, DC 20593. The telephone number for the Department of Transportation Headquarters Media Center is 502-992-5326.

For additional information on the location or to request reasonable accommodations for the meeting, contact the person listed in FOR FURTHER INFORMATION CONTACT below as soon as possible.

Instructions: To facilitate public participation, written comments on the issues in the “Agenda” section below must be submitted no later than October 17, 2016, if you want committee members to review your comment prior to the meeting. You must include “Department of Homeland Security” and the docket number [USCG-2016-0142] in your submission. Written comments may also be submitted using Federal eRulemaking Portal: http://www.regulations.gov. If you encounter technical difficulties, contact Mr. William J. Abernathy. Comments received will be posted without alteration at http://www.regulations.gov including any personal information provided. You may review a Privacy Act notice regarding the Federal Docket Management System in the March 24, 2005 issue of the Federal Register (70 FR 15086).

Docket Search: For access to the docket to read documents or comments related to this notice, go to http://www.regulations.gov, and use “USCG-2016-0142” in the “Search” box, press Enter, and then click on the item you wish to view.

FOR FURTHER INFORMATION CONTACT: Commandant (CG-OES-2), ATTN: Mr. William J. Abernathy, Towing Safety Advisory Committee Alternate Designated Federal Officer, U.S. Coast Guard Stop 7509, 2703 Martin Luther King Jr. Avenue SE., Washington, DC 20593-7509; telephone 202-372-1363, fax 202-372-8387, or email at William.J.Abernathy@uscg.mil.

SUPPLEMENTARY INFORMATION: Notice of this meeting is in compliance with the Federal Advisory Committee Act, (Title 5, U.S.C. Appendix). This committee is established in accordance with, and operates under the provisions of, the Federal Advisory Committee Act. As stated in 33 U.S.C. 1231a, the Towing Safety Advisory Committee provides advice and recommendations to the Department of Homeland Security on matters relating to shallow-draft inland and coastal waterway navigation and towing safety.

Further information about the Towing Safety Advisory Committee is available here: http://www.facadatabase.gov. Click on the search tab and type “Towing Safety” into the search form. Then select “Towing Safety Advisory Committee” from the list. A copy of each draft report and presentation as well as the meeting agenda will be available at: http://homeport.uscg.mil/tsac.

Agenda of Meetings

On October 26 and 27, 2016, the Towing Safety Advisory Committee and its subcommittees will meet to review, discuss, deliberate, and formulate recommendations, as appropriate, on the following:

(1) Current Subcommittees and Tasks

a. Subchapter M Implementation(Task 16-01)

b. Inland Firefighting (Task 16-02)

c. Articulated Tug and Barge (Task 15-02)

d. Electronic Charting Systems (Task 15-03)

(2) Proposed New Subcommittee and Task

(a) Unmanned Liquefied Natural Gas Tank Barges (Task 16-03)

On October 27, 2016, at 8:30 a.m. the Committee will hear remarks from Captain Verne Gifford, U.S. Coast Guard, Director of Inspections and Compliance, and Mr. Paul Jaenichen, Administrator, Maritime Administration, U.S. Department of Transportation.

The Committee will also have a question and answer session concerning the Coast Guard's Mariner Credentialing Program and a discussion on the creation of a consolidated Coast Guard Headquarters Office of Merchant Mariner Credentialing.

Public comments or questions will be taken throughout the meeting as the committee discusses the issues prior to deliberations and voting. There will also be a public comment period at the end of the meeting. Speakers are requested to limit their comments to 5 minutes. Please note that the public comment period may end before the period allotted, following the last call for comments. Contact the individual listed in the FOR FURTHER INFORMATION CONTACT section above to register as a speaker.

Dated: August 30, 2016.
J.G. Lantz,
Director of Commercial Regulations and Standards.

[FR Doc. 2016-22131 Filed 9-14-16; 8:45 am]

BILLING CODE 9110-04-P